DEPARTMENT OF ENERGY

Federal Energy Regulatory Commission

[Project No. 2277-023]

Union Electric Company (dba Ameren Missouri); Missouri; Taum Sauk Pumped Storage Project; Notice of Proposed Restricted Service List for a Programmatic Agreement for Managing Properties Included in or Eligible for Inclusion in the National Register of Historic Places

Rule 2010 of the Federal Energy Regulatory Commission's (Commission) Rules of Practice and Procedure ¹ provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

¹ 18 CFR 385.2010.

The Commission staff is consulting with the Missouri State Historic Preservation Office (Missouri SHPO) and the Advisory Council on Historic Preservation (Advisory Council) pursuant to the Advisory Council's regulations, 36 CFR Part 800, implementing section 106 of the National Historic Preservation Act, as amended, (16 U.S.C. 470f), to prepare a Programmatic Agreement for managing properties included in, or eligible for inclusion in, the National Register of Historic Places that could be affected by issuance of a new license for the Taum Sauk Pumped Storage Project No. 2277.

The programmatic agreement, when executed by the Commission and the Missouri SHPO, would satisfy the Commission's section 106 responsibilities for all individual undertakings carried out in accordance with the license until the license expires or is terminated (36 CFR 800.13(e)). The Commission's responsibilities pursuant to section 106 for the project would be fulfilled through the Programmatic Agreement, which the Commission staff proposes to draft in consultation with certain parties listed below. The executed Programmatic Agreement would be incorporated into any Order issuing a license.

Union Electric Company (doing business as Ameren Missouri), as applicant for the Taum Sauk Pumped Storage Project and the Osage Nation have expressed an interest in this proceeding and are invited to participate in consultations to develop the Programmatic Agreement. For purposes of commenting on the programmatic agreement, we propose to restrict the service list for Project No. 2277 as follows:

John Eddins or Representative, Advisory Council on Historic Preservation, The Old Post Office Building, Suite 803, 1100 Pennsylvania Avenue NW., Washington, DC 20004.

Judith Deel or Representative, Missouri State Historic Preservation Office, 1101 Riverside Dr., Jefferson City, MO 65101.

Dr. Andrea A. Hunter or Representative, Osage Nation, Tribal Historic Preservation Office, 627 Grandview, Pawhuska, Oklahoma 74056.

Michael Lobbig, P.E., PMP or Representative, Managing Supervisor, Hydro Licensing, Dam Safety & Hydro Engineering Department, Ameren Missouri, Power Operations Services, 3700 S. Lindbergh Blvd., St. Louis, Missouri 63127.

Any person on the official service list for the above-captioned proceeding may request inclusion on the restricted service list, or may request that a restricted service list not be established, by filing a motion to that effect within 15 days of this notice date. In a request for inclusion, please identify the reason(s) why there is an interest to be included. Also please identify any concerns about historic properties, including Traditional Cultural Properties. If historic properties are to be identified within the motion, please use a separate page, and label it NON-PUBLIC Information.

The Commission strongly encourages electronic filing. Please file motions using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2277-023.

If no such motions are filed, the restricted service list will be effective at the end of the 15 day period. Otherwise, a further notice will be issued ruling on any motion or motions within the 15-day period.

Dated: October 11, 2013.
Nathaniel J. Davis, Sr.,
Deputy Secretary.

[FR Doc. 2013-24518 Filed 10-18-13; 8:45 am]

BILLING CODE 6717-01-P